DEPARTMENT OF TRANSPORTATION

Federal Aviation Administration

Notice of Intent to Rule on Request for a Change in Use of Aeronautical Property at the Williamsport Regional Airport, Williamsport, PA

AGENCY: Federal Aviation Administration (FAA), DOT.

ACTION: Notice of request for a Change in Use of Aeronautical Property.

SUMMARY: The FAA proposes to rule and invite public comment for a change in airport property from aeronautical use to non-aeronautical use at the Williamsport Regional Airport, Williamsport, Pennsylvania.

DATES: Comments must be received on or before June 14, 2010.

ADDRESSES: Comments on this application may be mailed or delivered to the following address: Thomas J. Hart, Executive Director, Williamsport Municipal Airport Authority, Williamsport Regional Airport, 700 Airport Road, Montoursville, PA 17754;

and at the FAA Harrisburg Airports District Office: Lori K. Pagnanelli, Manager, Harrisburg Airports District Office, 3905 Hartzdale Dr., Suite 508, Camp Hill, PA 17011.

FOR FURTHER INFORMATION CONTACT: Rick Harner, Program Manager Harrisburg Airports District Office location listed above.

The request for the change of use may be reviewed in person at this same location.

SUPPLEMENTARY INFORMATION: The FAA proposes to rule and invite public comment for a change in airport property from aeronautical use to non-aeronautical use at the Williamsport Regional Airport, Williamsport, Pennsylvania. On April 16, 2010, the FAA determined that the request to change airport property from aeronautical use to non-aeronautical use at the Williamsport Regional Airport, submitted by the Williamsport Municipal Airport Authority (Authority) met the procedural requirements.

The following is a brief overview of the request:

The Williamsport Regional Airport Authority (Authority) requests the change of real property totaling 24.37 acres, of aeronautical airport property to non-aeronautical property. The property is located on the northwest corner of the airport property. The purpose of this change in use is to allow the Authority to lease the subject land that does not serve any aeronautical purpose at the airport to the Sooner Pipe Company, LLC (Sooner). Sooner will use the subject property for pipe delivery, threading, storage and shipping to sites in the northeastern United States. The proposed use of the subject property is compatible with the airport operations. There are no impacts to the Airport and the land is not needed for aeronautical development as shown on the Airport Layout Plan. The Authority will collect fair market value lease rates for the subject property. Any proceeds from the lease of property are to be used for the capital and operating costs of the airport.

Any person may inspect the request by appointment at the FAA office address listed above. Interested persons are invited to comment on the proposed release from obligations. All comments will be considered by the FAA to the extent practicable.

Issued in Camp Hill, Pennsylvania, April 27, 2010.
Lori K. Pagnanelli,
Manager, Harrisburg Airports District Office.

[FR Doc. 2010-11509 Filed 5-12-10; 8:45 am]

BILLING CODE 4910-13-P